DEPARTMENT OF ENERGY

Federal Energy Regulatory Commission

[Docket No. CP19-14-000]

Mountain Valley Pipeline, LLC; Notice of Revised Schedule for Environmental Review of the Southgate Project

This notice identifies the Federal Energy Regulatory Commission staff's revised schedule for the completion of the final Environmental Impact Statement (EIS) for Mountain Valley Pipeline, LLC's Southgate Project. The first notice of schedule, issued on March 15, 2019, identified December 19, 2019 as the final EIS issuance date. However, Mountain Valley filed additional information on October 23, 2019 that included changes to the route and revised data for resource impacts. Because the supplemental information needs further review and required an additional notice to the landowners affected by the route changes, issued on November 15, 2019, Commission staff has revised the schedule for issuance of the final EIS.

Schedule for Environmental Review

Issuance of Notice of Availability of the final EIS February 14, 2020

90-day Federal Authorization Decision Deadline May 14, 2020

If a schedule change becomes necessary, an additional notice will be provided so that the relevant agencies are kept informed of the project's progress.

Additional Information

In order to receive notification of the issuance of the final EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-14), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 22, 2019.
Nathaniel J. Davis, Sr.,
Deputy Secretary.

[FR Doc. 2019-25917 Filed 11-27-19; 8:45 am]

BILLING CODE 6717-01-P